EXPORT-IMPORT BANK

Sunshine Act Meeting

ACTION: Notice of a partially open meeting of the Board of Directors of the Export-Import Bank of the United States.

Time and Place: Thursday, April 27, 2006 at 9:30 a.m. The meeting will be held at Ex-Im Bank in Room 1143, 811 Vermont Avenue, NW., Washington, DC 20571.

Open Agenda Item: Co-Guarantee Program with the Small Business Administration (Renewal).

Public Participation: The meeting will be open to public participation for Item No. 1.

FOR FURTHER INFORMATION CONTACT: Office of the Secretary, 811 Vermont Avenue, NW., Washington, DC 20571 (Tel. No. 202-565-3957).

Howard A. Schweitzer,
General Counsel (Acting).

[FR Doc. 06-3923 Filed 4-21-06; 10:41 am]

BILLING CODE 6690-01-M